POSTAL SERVICE

Notice of Availability: Draft Programmatic Environmental Assessment for Commercial Off-the-Shelf Vehicle Acquisitions, Nationwide

AGENCY: Postal Service.

ACTION: Notice of availability of a Programmatic Environmental Assessment.

SUMMARY: To comply with the requirements of the National Environmental Policy Act (NEPA), the Postal Service has prepared and is making available for comments a Draft Programmatic Environmental Assessment (PEA) for Commercial Off-the-Shelf (COTS) Vehicle Acquisitions (the Proposed Action), which is national in scope. This PEA evaluated the environmental impacts of the Proposed Action and an Alternative Action versus taking No Action. The Draft PEA can be reviewed online at http://about.usps.com/what-we-are-doing/green/pdf/cots-pea.pdf.

DATES: Comments should be received no later than 5:00 p.m. ET, August 3, 2017.

ADDRESSES: Direct written comments to: Davon Collins, Environmental Counsel, U.S. Postal Service, Room 6333, 475 L'Enfant Plaza SW., Washington, DC 20260, email davon.m.collins@usps.gov.

FOR FURTHER INFORMATION CONTACT: Davon M. Collins, (202) 268-4570.

SUPPLEMENTARY INFORMATION: To stabilize its delivery fleet pending the development of a longer-term solution to its vehicle needs and in furtherance of its statutory Universal Service Obligation, the Postal Service is considering the purchase of an estimated 26,000 COTS delivery vehicles to accommodate route growth over the next three years, and to replace accident-damaged, aged and high-maintenance-cost vehicles.

Pursuant to the requirements of NEPA, the Postal Service's implementing procedures at 39 CFR 775, and the President's Council on Environmental Quality Regulations (40 CFR parts 1500-1508), the Postal Service has prepared a PEA to evaluate the environmental impacts of the following three actions on the physical, biological, cultural, and socioeconomic environments. To assist in this process, the Postal Service is soliciting the public's input and comments.

The Proposed Action would accommodate an increase in delivery points and routes anticipated over each of the next three years through the purchase of an estimated 7,000 new delivery vehicles and establishment of new delivery routes; and replace an estimated 19,000 accident-damaged, aged and high-maintenance-cost delivery vehicles, and aged minivans with new COTS vehicles. The Alternative Action would accommodate the expected increase in routes through the lease of additional vehicles, and provide for replacement of high-maintenance-cost and aged vehicles with leased vehicles. Under the No Action Alternative, the Postal Service would not implement the COTS Vehicle Acquisitions. The existing delivery fleet would be maintained at the status quo; existing delivery vehicles would continue to be used and incur increasingly higher maintenance costs as the vehicles continued to age; and existing delivery routes would be expanded to address annual city and rural delivery growth, incurring additional mileage and corresponding increased costs for maintenance and repair ofexisting vehicles.

The Draft PEA concludes that the Proposed Action would not result in significant adverse impacts on the physical, biological, cultural, and socioeconomic environments. The Proposed Action would result in beneficial impacts to current air quality nationwide, as the new vehicles would have better emission controls than the vehicles being replaced, and therefore decrease emissions as compared with the No Action Alternative, and at a significantly lower cost than the Alternative Action. Adverse impacts to other aspects of the environment such as biological, water, and cultural resources; energy resources; waste management; and community services would be minor to insignificant. The Proposed Action would also have an insignificant but beneficial socioeconomic impact nationwide, as new hires and additional related material purchases would produce beneficial economic results.

Unless substantive comments are received during the 15-day comment period and significant issues are identified, the Postal Service will finalize the PEA, issue a Finding of No Significant Impact (FONSI), and proceed with the project. Should a FONSI be issued, it will be available for public viewing at http://about.usps.com/what-we-are-doing/green/welcome.htm, and the Postal Service would not publish another notice for this project. In the event significant issues are identified, the Postal Service will either issue a Mitigated FONSI, listing required mitigation measures, or publish a new Notice of Intent to prepare an Environmental Impact Statement.

Stanley F. Mires,
Attorney, Federal Compliance.

[FR Doc. 2017-15082 Filed 7-18-17; 8:45 am]

BILLING CODE 7710-12-P